DEPARTMENT OF COMMERCE

International Trade Administration

[A-201-809]

Cut-to-Length Carbon Steel Plate from Mexico: Rescission of Antidumping Duty Administrative Review

AGENCY: Import Administration, International Trade Administration, Department of Commerce.

SUMMARY: On September 25, 2002, in response to a request made by Bethlehem Steel Corporation and United States Steel Corporation (“Petitioners”), the Department of Commerce (“the Department”) published in the Federal Register (67 FR 60210) a notice announcing the initiation of an administrative review of the antidumping duty order on cut-to-length carbon steel plate from Mexico. The review period is August 1, 2001, to July 31, 2002. This review has now been rescinded because Altos Hornos de Mexico, S.A. de C.V. did not have any shipments during the period of review (“POR”).

EFFECTIVE DATE: April 18, 2003.

FOR FURTHER INFORMATION CONTACT: Michael Ferrier, Enforcement Group III, Office 8, Import Administration, International Trade Administration, U.S. Department of Commerce, 14th Street and Constitution Avenue, NW., Room 7866, Washington, DC 20230; telephone (202) 482-1394.

SUPPLEMENTARY INFORMATION:

The Applicable Statute

Unless otherwise indicated, all citations are to the provisions of the Tariff Act of 1930, as amended (the Act). In addition, unless otherwise indicated, all citations to the Department's regulations are to the regulations at 19 CFR part 351 (2002).

Scope of the Review

The merchandise under review is cut-to-length carbon steel plate. Although the Harmonized Tariff Schedule of the United States (HTSUS) subheadings are provided for convenience and customs purposes, the written description of the merchandise under review is dispositive.

These products include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTSUS under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Included in this review are flat-rolled products of non-rectangular cross-section where such cross-section is achieved subsequent to the rolling process (i.e., products which have been “worked after rolling”) for example, products which have been beveled or rounded at the edges. Excluded from this review is grade X-70 plate.

Background

On August 30, 2002, Petitioners requested that the Department conduct an administrative review of the sales of subject merchandise made by Altos Hornos de Mexico, S.A. de C.V. (“AHMSA”) during the period August 1, 2001, to July 31, 2002. On September 25, 2002, the Department published in the Federal Register a notice announcing the initiation of an administrative review of the antidumping duty order on cut-to-length carbon steel plate from Mexico (see Initiation of Antidumping and Countervailing Duty Administrative Reviews, Requests for Revocation in Part and Deferral of Administrative Reviews, (67 FR 60210) September 25, 2002). On October 8, 2002, the Department issued an antidumping questionnaire to AHMSA. On October 17, 2002, AHMSA submitted a letter to the Department stating that neither AHMSA, nor any of its affiliated companies sold, shipped, or entered for consumption cut-to-length carbon steel plate from Mexico into the United States during the POR. AHMSA also requested that the Department rescind the administrative review. In a letter dated October 25, 2002, petitioners requested that the Department investigate the conflict between AHMSA's claim of no entries or sales for consumption during the POR and the U.S. Census Bureau IM-145 data showing that 369 net tons of cut-to-length carbon steel plate from Mexico entered the United States during the POR. Petitioners also surmised that AHMSA is the only producer of cut-to-length carbon steel plate in Mexico. On March 25, 2003, the Department issued a supplemental questionnaire to AHMSA, inquiring whether AHMSA or any of its affiliates exported subject merchandise to the United States during the POR. On April 1, 2002, AHMSA responded to the Department's supplemental questionnaire. AHMSA stated that its only affiliated reseller, National de Acero S.A. de C.V. (“NASA”) did not have any exports of Mexican cut-to-length plate to the United States during the POR.

Pursuant to 19 C.F.R. 351.213(d)(3), the Department may rescind an administrative review, in whole or only with respect to a particular exporter or producer, if the Secretary concludes that, during the period of review, there were no entries, exports, or sales of subject merchandise. The Department performed a U.S. Customs Service query for entries of cut-to-length carbon steel plate from Mexico, classified under the Harmonized Tariff Schedule of the United States (HTSUS) item numbers in the “Scope Under Review” section of this Federal Register notice. Additionally, the Department inquired with the U.S. Customs Service whether there were any shipments of cut-to-length carbon steel plate from Mexico. We found no entries or shipments from AHMSA or its affiliated reseller NASA during the POR of Mexican cut-to-length plate to the United States. This review has now been rescinded because AHMSA did not have any shipments during the POR. The Department will issue appropriate instructions to Customs.

This notice is issued and published in accordance with section 777(i) of the Act and 19 CFR 351.213(d)(4).

Dated: April 14, 2003.
Joseph A. Spetrini,
Acting Assistant Secretary for Import Administration.

[FR Doc. 03-9638 Filed 4-17-03; 8:45 am]

BILLING CODE 3510-DS-S